DEPARTMENT OF COMMERCE

International Trade Administration

Overseas Trade Missions

AGENCY: International Trade Administration, Department of Commerce.

ACTION: Notice.

SUMMARY: The Department of Commerce invites U.S. companies to participate in the below listed overseas trade missions. For a more complete description of each trade mission, obtain a copy of the mission statement from the Project Officer indicated for each mission below. Recruitment and selection of private sector participants for these missions will be conducted according to the Statement of Policy Governing Department of Commerce Overseas Trade Missions dated March 3, 1997.

IT and Telecommunications Trade Mission to Poland, Czech Republic and Hungary

Warsaw, Prague and Budapest

April 18-25, 2002

Recruitment closes on March 18, 2002.

FOR FURTHER INFORMATION CONTACT: Ms. Beatrix Roberts, U.S. Department of Commerce, telephone 202-482-2952, e-mail Beatrix_Roberts@ita.doc.gov or Mr. Jon Boyens, U.S. Department of Commerce, telephone 202-482-0573, e-mail Jon_Boyens@ita.doc.gov.

Franchising Trade Mission to China, Hong Kong (SAR) and Taiwan

Beijing, Shanghai, Hong Kong and Taipei

June 10-21, 2002

Recruitment closes on April 15, 2002.

FOR FURTHER INFORMATION CONTACT: Mr. Raj Dwivedy, U.S. Department of Commerce. Telephone 202-482-4581, or e-mail Raj_Dwivedy@ita.doc.gov.

Aerospace Trade Mission to Vietnam

Hanoi and Ho Chi Minh City

August 25-31, 2002

Recruitment closes on July 15, 2002.

FOR FURTHER INFORMATION CONTACT: Ms. Mara Yachnin, U.S. Department of Commerce. Telephone 202-482-6236, or e-mail Mara_Yachnin@ita.doc.gov.

FOR FURTHER INFORMATION CONTACT: Mr. Thomas Nisbet, U.S. Department of Commerce. Telephone 202-482-5657, or e-mail Tom_Nisbet@ita.doc.gov.

Dated: February 28, 2002.
Thomas H. Nisbet,
Director, Export Promotion Coordination, Office of Planning, Coordination and Management.

[FR Doc. 02-5258 Filed 3-5-02; 8:45 am]

BILLING CODE 3510-DR-P